SURFACE TRANSPORTATION BOARD

[Docket No. FD 36348]

Motive Rail, Inc. d/b/a Illinois Terminal Belt—Lease and Operation Exemption—Illinois Central Railroad Company

Motive Rail, Inc. d/b/a Illinois Terminal Belt (ITB), a Class III railroad, has filed a verified notice of exemption under 49 CFR 1150.41 to lease from Illinois Central Railroad Company (IC) and operate approximately 10.7 miles of rail line from milepost 784.2 in Heyworth, Ill. to milepost 773.5 in Clinton, Ill. (the Line).

ITB states that it has entered into a track lease with IC to provide common carrier service on the Line. According to ITB, the track lease between ITB and IC does not contain an interchange commitment.

ITB certifies that its projected annual revenues as a result of the proposed transaction will not exceed $5 million and that the transaction will not result in the creation of a Class II or Class I rail carrier.

This transaction may be consummated on or after October 11, 2019 (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 4, 2019 (at least seven days before the exemption becomes effective).

All pleadings, referring to Docket No. FD 36348, must be filed with the Surface Transportation Board either via e-filing or in writing addressed to 395 E Street SW, Washington, DC 20423-0001. In addition, a copy of each pleading must be served on ITB's representative: Eric M. Hocky, Clark Hill PLC, Two Commerce Square, 2001 Market Street, Suite 2620, Philadelphia, PA 19103.

According to ITB, this action is excluded from environmental review under 49 CFR 1105.6(c) and from historic preservation reporting requirements under 49 CFR 1105.8(b).

Board decisions and notices are available at www.stb.gov.

Decided: September 23, 2019.
By the Board, Allison C. Davis, Director, Office of Proceedings.
Aretha Laws-Byrum,
Clearance Clerk.

[FR Doc. 2019-20984 Filed 9-26-19; 8:45 am]

BILLING CODE 4915-01-P